DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of SAMHSA Homeless Programs (OMB No. 0930-0320)—Extension

SAMHSA's Center for Mental Health Services (CMHS) and Center for Substance Abuse Treatment (CSAT) is conducting an external evaluation of the impact of the Grants for the Benefit of Homeless Individuals (GBHI) and Services in Supportive Housing (SSH) programs. GBHI/SSH grant programs link substance abuse and mental health treatment with housing and other needed services and expand and strengthen these services for people with substance use and co-occurring mental health problems who are homeless. The national cross-site evaluation will assess the effectiveness, efficiency and sustainability of the GBHI/SSH project services for client abstinence, housing stability, homelessness, and related employment, criminal justice and services outcomes, as well as lessons learned to inform future efforts.

The Client Interview—Baseline and the Client Interview—6-Month Follow-up have been developed to assess program impact on client outcomes based on review of the literature and consultation with a panel of national experts, grantees and SAMHSA. The Client Interview is comprised of questions (unique from the Government Performance and Results Act (GPRA) Client-Level Tool and the National Outcome Measures (NOMS) Client-Level Measures) that measure the outcomes of interest and subpopulations of focus: homelessness, housing, treatment history, readiness to change, trauma symptoms, housing and treatment choice, burden and satisfaction, military service, employment, and criminal justice involvement. Immediately following the SAMHSA-required administration of the GPRA/NOMS client-level tools, which are completed by enrolled accepted clients for each grantee project at baseline and 6-month follow-up, the paper and pencil Client Interview will be administered face-to-face by the GPRA/NOMS interviewer. Questions regarding perception of care and treatment coercion will be self-administered by participating clients and returned to the interviewer in a sealed envelope to be included in the full package mailed to the evaluation coordinating center by the interviewer. Client participation is voluntary; non-cash incentives will be given at baseline worth a $10 value and at 6-month follow-up worth a $25 value. Clients will be assigned unique identifiers by local projects; responses will be recorded on a fill-in-the-bubble answer sheet, mailed by the grantee project to the evaluation coordinating center, and scanned into a secure dataset. This process will eliminate the need for data entry, thereby reducing cost and potential for data entry error, and ensuring privacy for evaluation data.

The Stakeholder Survey will be conducted with GBHI/SSH program stakeholders via a web survey to assess the types of stakeholder partnerships involved in the GBHI/SSH programs and the barriers and strategies developed to overcome barriers to facilitate the implementation and sustainability of project activities under the GBHI/SSH programs. Each survey respondent will be issued a username and password to login to and complete the secure web-based survey. The web-based survey format will reduce burden on the respondent and minimize potential for measurement error.

Estimate of Annualized Burden Hours
Instrument/Activity | Number of respondents | Number of responses per respondent | Total number of responses | Average burden per response | Total burden hours per collection
Client Interview:
Baseline Data Collection | 5,885 | 1 | 5,885 | .33 | 1,942
6-Month Follow-up Data Collection (80% of baseline) | 4,708 | 1 | 4,708 | .40 | 1,883
Stakeholder Survey | 648 | 1 | 648 | .28 | 181
TOTAL | 11,241 |  | 11,241 |  | 4,006

Written comments and recommendations concerning the proposed information collection should be sent by April 14, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-05469 Filed 3-12-14; 8:45 am]

BILLING CODE 4162-20-P